DEPARTMENT OF AGRICULTURE

Forest Service

Custer Gallatin National Forest—Yellowstone Ranger District—Stillwater Mining Company, East Boulder Mine Amendment 004 Expansion EIS

AGENCY: Forest Service, USDA.

ACTION: Notice of intent to prepare an environmental impact statement.

SUMMARY: The United States Department of Agriculture, Forest Service, Custer Gallatin National Forest has received a proposal from Stillwater Mining Company to amend the East Boulder Plan of Operations. Stillwater Mining Company proposes to expand the currently approved plan of operations boundary to provide their East Boulder Mine with additional storage for tailings and waste rock disposal and operational changes for continued operations. This notice informs the public that the Custer Gallatin National Forest intends to prepare an Environmental Impact Statement to assess the Plan of Operations Amendment and provides supporting information to the public on the purpose and need for Forest Service Action, a brief summary of the proposed action, preliminary impacts, and upcoming public scoping and comment opportunities.

DATES: Comments concerning the scope of the analysis must be received by June 27, 2022. The draft environmental impact statement is expected January 2023 and the final environmental impact statement is expected October 2023.

ADDRESSES: Comments may also be sent electronically to https://www.fs.usda.gov/project/?project=61385.

FOR FURTHER INFORMATION CONTACT: Robert Grosvenor, CGNF Minerals Administrator, (406) 848-7375 ext. 28, or at: robert.grosvenor@usda.gov.

Individuals who use telecommunication devices for the deaf (TDD) may call the Federal Relay Service (FRS) at 1-800-877-8339, 24 hours a day, every day of the year, including holidays.

SUPPLEMENTARY INFORMATION:

Purpose and Need for Action

The Forest Service's purpose for action is to consider approval of Stillwater Mining Company's East Boulder Plan of Operations Amendment 004 to expand operations on National Forest System lands in order to continue to develop and mine platinum and palladium deposits from the J-M Reef. The Forest Service purpose and need for action are established by the agency's responsibilities under the Organic Administration Act of 1897 (16 United States Code 478, 482, and 551) and the locatable minerals regulations at 36 Code of Federal Regulations (CFR) 228, subpart A, which set forth rules and procedures through which use of the surface of NFS lands in connection with operations authorized by the United States Mining Laws (30 United States Code 21-54), which confer a statutory right to enter upon the public lands to search for minerals, shall be conducted so as to minimize adverse environmental impacts on National Forest System lands surface.

Proposed Action

The East Boulder Mine Amendment 004 project proposes continuation of mining operations by constructing a new tailings storage facility, waste rock storage area, and constructing supporting infrastructure or relocating existing infrastructure to support the expansion activities in the vicinity of the existing East Boulder Mine on National Forest System and private lands. The Plan of Operations incorporates closure and reclamation, monitoring, and mitigation activities throughout the life of the mine. Under the plan of operations, construction, operation, closure, and reclamation phases of the Amendment 004 project would take place over a period of approximately 20 years. Environmental monitoring and maintenance would continue for as long as needed to demonstrate that the site has been fully reclaimed.

Expected Impacts

Preliminary impacts were identified based on regulatory requirements, input from Forest Service Interdisciplinary Team and previous public involvement and collaboration related to mineral development projects. Preliminary impacts include:

Surface Water and Groundwater—Construction and operation of mine infrastructure may inpact water quality and quantity.

Public Health and Safety—Public health and safety could potentially be impacted throughout the life of the mine.

Wildlife—Construction activities and operations could affect wildlife species and habitats including fish such as Yellowstone cutthroat trout.

Joint Lead Agencies

USDA Forest Service—Custer Gallatin National Forest and Montana Department of Environmental Quality.

Responsible Official

Mary C. Erickson, Forest Supervisor, Custer Gallatin National Forest.

Scoping Comments and the Objection Process

This notice of intent initiates the scoping process, which guides the development of the environmental impact statement. In this process the Agency is requesting comments on potential alternatives and impacts, and identification of any relevant information, studies or analyses of any kind concerning impacts affecting the quality of the human environment.

It is important that reviewers provide their comments at such times and in such manner that they are useful to the agency's preparation of the environmental impact statement. Therefore, comments should be provided prior to the close of the comment period and should clearly articulate the reviewer's concerns and contentions. Commenting during scoping and any other designated opportunity to comment provided by the Responsible Official will also establish standing to object once the final EIS and Draft Record of Decision has been published. Comments received in response to this solicitation, including names and addresses of those who comment, will be part of the public record for this proposed action. Comments submitted anonymously will be accepted and considered, however, they will not be used to establish standing for the objection process.

Permits, Licenses or Other Authorizations Required

Department of Environmental Quality—Mine Operations and Reclamations Permit Amendment.

Dated: April 28, 2022.
Barnie Gyant,
Associate Deputy Chief, National Forest System.

[FR Doc. 2022-11470 Filed 5-26-22; 8:45 am]

BILLING CODE 3411-15-P